NATIONAL LABOR RELATIONS BOARD

Sunshine Act Meetings: February 2013

Time and Dates

All meetings are held at 2:00 p.m.

Wednesday, February 6;

Thursday, February 7;

Wednesday, February 13;

Thursday, February 14;

Wednesday, February 20;

Thursday, February 21;

Wednesday, February 27;

Thursday, February 28.

PLACE: Board Agenda Room, No. 11820, 1099 14th St. NW., Washington DC 20570.

STATUS: Closed.

MATTERS TO BE CONSIDERED: Pursuant to § 102.139(a) of the Board's Rules and Regulations, the Board or a panel thereof will consider “the issuance of a subpoena, the Board's participation in a civil action or proceeding or an arbitration, or the initiation, conduct, or disposition * * * of particular representation or unfair labor practice proceedings under section 8, 9, or 10 of the [National Labor Relations] Act, or any court proceedings collateral or ancillary thereto.” See also 5 U.S.C. 552b(c)(10).

CONTACT PERSON FOR MORE INFORMATION: Gary Shinners, Acting Executive Secretary, (202) 273-3737.

Dated: February 5, 2013.
Gary Shinners,
Acting Executive Secretary.

[FR Doc. 2013-02882 Filed 2-5-13; 4:15 pm]

BILLING CODE 7545-01-P